DEPARTMENT OF LABOR

Occupational Safety and Health Administration

[Docket No. NRTL2-2001]

TUV America, Inc., Expansion of Recognition

AGENCY: Occupational Safety and Health Administration (OSHA), Labor.

ACTION: Notice.

SUMMARY: This notice announces the Occupational Safety and Health Administration's final decision expanding the recognition of TUV America, Inc., as a Nationally Recognized Testing Laboratory under 29 CFR 1910.7.

DATES: The expansion of recognition becomes effective on August 30, 2005.

FOR FURTHER INFORMATION CONTACT: Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of TUV America, Inc., (TUVAM) as a Nationally Recognized Testing Laboratory (NRTL). This expansion covers the use of additional test standards. OSHA's current scope of recognition for TUVAM may be found in the following informational Web page: http://www.osha-slc.gov/dts/otpca/nrtl/tuvam.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

TUVAM submitted an application, dated August 1, 2003 (see Exhibits 7 and 7-1), to expand its recognition to include 45 additional test standards. The NRTL Program staff determined that one of these standards is not an “appropriate test standard” within the meaning of 29 CFR 1910.7(c). The staff makes this determination in processing the expansion request of any NRTL. Therefore, OSHA is approving 44 test standards for the expansion. Following review of the application, OSHA requested certain additional information from TUVAM and deferred action on the application pending receipt of this information. The NRTL adequately responded to that request prior to publication of the preliminary notice, permitting OSHA to resume processing of the application. The preliminary notice announcing the expansion application was published in the Federal Register on May 18, 2005 (70 FR 28581). Comments were requested by June 2, but no comments were received in response to this notice.

You may obtain or review copies of all public documents pertaining to the TUVAM application by contacting the Docket Office, Occupational Safety and Health Administration, U.S. Department of Labor, 200 Constitution Avenue, NW., Room N2625, Washington, DC, 20210. Docket No. NRTL2-2001 contains all materials in the record concerning TUVAM's application.

The current addresses of the TUVAM facilities already recognized by OSHA are: TUV Product Services (TUVAM), 5 Cherry Hill Drive, Danvers, Massachusetts 01923; TUV Product Services (TUVAM), 10040 Mesa Rim Road, San Diego, California 92121; and TUV Product Services (TUVAM), 1775 Old Highway 8 NW., Suite 104, New Brighton (Minneapolis), Minnesota 55112.

Final Decision and Order

NRTL Program staff has examined the application, the assessor's report, and other pertinent information. Based upon this examination and the assessor's recommendation, OSHA finds that TUVAM has met the requirements of 29 CFR 1910.7 for expansion of its recognition, subject to the limitation and conditions listed below. Pursuant to the authority in 29 CFR 1910.7, OSHA hereby expands the recognition of TUVAM, subject to the following limitation and conditions.

Limitation

OSHA limits the expansion of TUVAM's recognition to testing and certification of products for demonstration of conformance to the test standards listed below. OSHA has determined that each of these standards meets the requirements for an appropriate test standard, within the meaning of 29 CFR 1910.7(c).

UL 22 Amusement and Gaming Machines

UL 197 Commercial Electric Cooking Appliances

UL 250 Household Refrigerators and Freezers

UL 291 Automated Teller Systems

UL 427 Refrigerating Units

UL 467 Electrical Grounding and Bonding Equipment

UL 471 Commercial Refrigerators and Freezers

UL 499 Electric Heating Appliances

UL 507 Electric Fans

UL 508a Industrial Control Panels

UL 508c Power Conversion Equipment

UL 541 Refrigerated Vending Machines

UL 551 Transformer-type Arc-welding Machines

UL 763 Motor-Operated Commercial Food Preparing Machines

UL 873 Temperature-Indicating and -Regulating Equipment

UL 923 Microwave Cooking Appliances

UL 963 Sealing, Wrapping, and Marking Machines

UL 982 Motor-operated Household Food Preparing Machines

UL 998 Humidifiers

UL 1004 Electric Motors

UL 1005 Electric Flatirons

UL 1017 Vacuum Cleaners, Blower Cleaners, and Household Floor Finishing Machines

UL 1026 Electric Household Cooking and Food Serving Appliances

UL 1082 Household Electric Coffee Makers and Brewing-Type Appliances

UL 1083 Household Electric Skillets and Frying-Type Appliances

UL 1090 Electric Snow Movers

UL 1236 Battery Chargers for Charging Engine-Starter Batteries

UL 1278 Movable and Wall-or Ceiling-Hung Electric Room Heaters

UL 1310 Class 2 Power Units

UL 1448 Electric Hedge Trimmers

UL 1450 Motor-Operated Air Compressors, Vacuum Pumps and Painting Equipment

UL 1492 Audio-Video Products and Accessories

UL 1585 Class 2 and Class 3 Transformers

UL 1647 Motor-Operated Massage and Exercise Machines

UL 1662 Electric Chain Saws

UL 1740 Industrial Robots and Robotic Equipment

UL 1995 Heating and Cooling Equipment

UL 2200 Stationary Engine Generator Assemblies

UL 60335-1 Safety of Household and Similar Electrical Appliances, Part 1: General Requirements

UL 60335-2-8 Household and Similar Electrical Appliances, Part 2: Particular Requirements for Electric Shavers, Hair Clippers, and Similar Appliances

UL 60335-2-34 Household and Similar Electrical Appliances, Part 2: Particular Requirements for Motor-Compressors

UL 61010A-2-010 Electrical Equipment for Laboratory Use; Part 2: Particular Requirements for Laboratory Equipment for the Heating of Materials

UL 61010A-2-041 Electrical Equipment for Laboratory Use; Part 2: Particular Requirements for Autoclaves Using Steam for the Treatment of Medical Materials for Laboratory Processes

UL 61010A-2-051 Electrical Equipment for Laboratory Use; Part 2: Particular Requirements for Laboratory Equipment for Mixing and Stirring

OSHA's recognition of TUVAM, or any NRTL, for a particular test standard is limited to equipment or materials (i.e., products) for which OSHA standards require third party testing and certification before use in the workplace. Consequently, an NRTL's scope of recognition excludes any product(s) falling within the scope of a test standard for which OSHA has no NRTL testing and certification requirements.

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

TUVAM must also abide by the following conditions of the recognition, in addition to those already required by 29 CFR 1910.7:

OSHA must be allowed access to TUVAM's facility and records for purposes of ascertaining continuing compliance with the terms of its recognition and to investigate as OSHA deems necessary;

If TUVAM has reason to doubt the efficacy of any test standard it is using under this program, it must promptly inform the test standard developing organization of this fact and provide that organization with appropriate relevant information upon which its concerns are based;

TUVAM must not engage in or permit others to engage in any misrepresentation of the scope or conditions of its recognition. As part of this condition, TUVAM agrees that it will allow no representation that it is either a recognized or an accredited Nationally Recognized Testing Laboratory (NRTL) without clearly indicating the specific equipment or material to which this recognition is tied, or that its recognition is limited to certain products;

TUVAM must inform OSHA as soon as possible, in writing, of any change of ownership, facilities, or key personnel, and of any major changes in its operations as an NRTL, including details;

TUVAM will meet all the terms of its recognition and will always comply with all OSHA policies pertaining to this recognition; and

TUVAM will continue to meet the requirements for recognition in all areas where it has been recognized.

Signed at Washington, DC this 15th day of August, 2005.
Jonathan L. Snare,
Deputy Assistant Secretary.

[FR Doc. 05-17183 Filed 8-29-05; 8:45 am]

BILLING CODE 4510-26-P